DEPARTMENT OF COMMERCE

National Oceanic and Atmospheric Administration

Notice of Availability and Initiation of Review of Draft Revised Management Plan for the Hawaiian Islands Humpback Whale National Marine Sanctuary; Notice of Public Meetings

AGENCY: National Marine Sanctuary Program (NMSP), National Ocean Service (NOS), National Oceanic and Atmospheric Administration, Department of Commerce (DOC).

ACTION: Notice of availability; Notice of public meetings.

SUMMARY: The Hawaiian Islands Humpback Whale National Marine Sanctuary was Congressionally designated by the Hawaiian Islands National Marine Sanctuary Act (HINMSA) on November 4, 1992 (Subtitle C of Public Law 102-587, the Oceans Act of 1992). On Friday, March 28, 1997, the final regulations were published in the Federal Register (62 FR 14799), and became effective on June 6, 1997.

At the time of designation, NOAA made a commitment to the State of Hawaii that five years after the management plan and regulations had become effective, NOAA, in consultation with the State of Hawaii, would evaluate the progress made toward implementing the management plan, regulations, and goals for the Sanctuary. NOAA also agreed that after the evaluation was complete, NOAA would then re-submit the management plan and regulations in their entirety, as far as they affect State waters, to the Governor for his approval. The revised management plan is the result of the five-year evaluation and will be submitted to the Governor.

The review process is composed of four major stages: information collection and characterization; preparation and release of a draft revised management plan; public review and comment; and preparation and release of a final management plan.

In reviewing the original management plan in preparation for the five-year review by the NMSP and the State of Hawaii, it became clear that although a completely rewritten management plan was not necessary, some restructuring and revising of the document would be beneficial. First, the Sanctuary has accomplished many of the tasks outlined for it in the original management plan that can be removed. Second, the goals and objectives originally outlined needed to be revised to reflect the current and future direction of the Sanctuary, and the 2000 amendments of the National Marine Sanctuaries Act (NMSA). Finally, the structure of the original management plan does not follow the formats developed in the last three years for ongoing management plan reviews at other Sanctuaries. The NMSP and the State of Hawaii decided to revise certain parts of the original management plan and reformat the document, during the five-year review. The draft revised management plan does not propose any regulatory or boundary changes.

The draft revised management plan has been completed and is now available for public review. NOAA will conduct public meetings to gather information and other comments from individuals, organizations, and government agencies on the scope, types, and significance of issues related to the Sanctuary's draft revised management plan. Written comments may also be sent to the address below or via e-mail at hihumpbackwhale@noaa.gov. The public review period will run from March 19, 2002 until May 24, 2002. The public meetings are scheduled for May 1-May 9, 2002, as detailed below.

DATES: Written comments should be received on or before May 24, 2002. Public meetings will be held on May 1 on Oahu, May 2 on Maui, May 3 on Kauai, and May 8 and 9 on the Big Island of Hawaii (Kona and Hilo respectively).

ADDRESSES: Written comments may be sent to the Naomi McIntosh, Hawaiian Islands Humpback Whale National Marine Sanctuary (Management Plan Review), 6700 Kalanianaole Highway, Suite 104, Honolulu, Hawaii 96825. Comments will be available for public review at the same address.

Public meetings will be held at:

(1) Wednesday, May 1, 6 to 9 p.m., Tokai University Auditorium, 2241 Kapiolani Boulevard, Honolulu, Hawaii.

(2) Thursday, May 2, 6 to 9 p.m., Kihei Community Center, Lipoa Street at the corner of Piilani Highway, Kihei, Maui, Hawaii.

(3) Friday, May 3, 6 to 9 p.m., Radisson Kauai Beach Resort, Ginger Room, 4331 Kauai Beach Drive, Lihue, Kauai, Hawaii.

(4) Wednesday, May 8, 6 to 9 p.m., King Kamehameha's Kona Beach Hotel, Kamakahonu Ballroom, Rooms 1 & 2, 75-5660 Palani Road, Kailua-Kona, Hawaii (Big Island).

(5) Thurday, May 9, 6 to 9 p.m., Naniloa Hotel, Hoomalimali Room (ground floor beside the Sandalwood Dining Room) 93 Banyan Drive, Hilo, Hawaii (Big Island).

FOR FURTHER INFORMATION CONTACT: Anne Reisewitz, MPR Coordinator, by phone at (808) 397-2651 or via e-mail at Annelore.Reisewitz@noaa.gov.

Authority: 16 U.S.C. Section 1431 et seq.

(Federal Domestic Assistance Catalog Number 11.429 Marine Sanctuary Program)
Dated: March 11, 2002.
Jamison S. Hawkins,
Deputy Assistant Administrator, for Ocean Services and Coastal Zone Management.

[FR Doc. 02-6265 Filed 3-18-02; 8:45 am]

BILLING CODE 3510-08-M